DEPARTMENT OF AGRICULTURE

Submission for OMB Review; Comment Request

April 24, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical, or other technological collection techniques or other forms of information technology.

Comments regarding this information collection received by May 29, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such person are not required to respond to the collection of information unless it displays a currently valid OMB control number.

Office of the Chief Financial Officer

Title: Information Collection Request; Representations Regarding Felony Conviction and Tax Delinquent Status for Corporate Applicants and Awardees.

OMB Control Number: 0505-0025.

Summary of Collection: The Department of Agriculture (USDA) agencies and staff offices must comply with the restrictions set forth in Sections 744 and 745, in Division D—Financial Services and General Government Appropriations Act, Title VII: General Provisions—Governmentwide, Departments, Agencies, and Corporations of the Consolidated Appropriations Act, 2019, (Pub. L. 116-6, as amended and/or subsequently enacted), hereinafter Public Law 116-6. The restrictions apply to transactions with corporations that (1) have any “unpaid Federal tax liability that has been assessed, for which all judicial and administrative remedies have been exhausted or have lapsed, and that is not being paid in a timely manner pursuant to an agreement with the authority responsible for collecting the tax liability, where the awarding agency is aware of the unpaid tax liability and/or (2) were “convicted of a felony criminal violation under any Federal law within the preceding 24 months, where the awarding agency is aware of the conviction. The restrictions may not apply if a Federal agency considers suspension or debarment of the corporation and determines that such action is not necessary to protect the interests of the Government.

In fiscal years 2012-2014 the appropriation restriction provisions were not uniform across the government. To comply, USDA created two sets of forms—one set for use by all USDA agencies and offices, except the Forest Service (AD-3030, AD-3031) and one set for use by the Forest Service (AD-3030-FS and AD-3031-FS). In 2015, Congress eliminated the multiple versions of the appropriation restriction provisions and enacted a single set of governmentwide provisions for all agencies and departments, thereby allowing USDA to collect this data with one set of forms—AD-3030 and AD-3031. The representations continue to be required as reflected in Public Law 116-6.

Need and Use of the Information: To comply with the appropriations restrictions, the information collection requires corporate applicants and awardees for USDA programs to represent accurately whether they have or do not have qualifying tax delinquencies or felony convictions which would prevent USDA from entering into a proposed business transaction with the corporate applicant. For nonprocurement programs and transactions, these representations will be submitted using the following forms:

• AD-3030—“Representations Regarding Felony Conviction or Tax Delinquent Status for Corporate Applicants”—This form will normally be included as part of the application package.

• AD-3031—“Assurance Regarding Felony Conviction or Tax Delinquent Status for Corporate Applicants”—This form is optional for agencies and staff offices to be included as part of the acknowledgement and acceptance package for nonprocurement contracts, grants, loans, loan guarantees, cooperative agreements and some memoranda of understanding/agreement. Some agencies and staff offices may choose to use the forms and others may choose to use the applicable boiler plate language.

This information assists the agencies and staff offices with identifying corporations and awardees with unpaid Federal tax liability and felony convictions status prior to entering into nonprocurement transactions for numerous Departmental programs.

Failure to collect this information may cause inappropriate use of funds and violation of the Anti-Deficiency Act.

Description of Respondents: Corporate applicants and awardees for USDA nonprocurement programs, including grants, cooperative agreements, loans, loan guarantees, some memoranda of understanding/agreement, and nonprocurement contracts.

Number of Respondents: 352,523.

Frequency of Responses: Reporting: Other: Corporations—each time they apply to participate in a multitude of USDA non-procurement programs; Awardees each time they receive an award.

Total Burden Hours: 242,360.

Ruth Brown,
Departmental Information Collection Clearance Officer.

[FR Doc. 2019-08572 Filed 4-26-19; 8:45 am]

BILLING CODE 3410-KS-P